DEPARTMENT OF HOUSING AND URBAN DEVELOPMENT

[Docket No. FR-4730-N-46]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

DATES: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Attn: DAIM-MD, Room 1E677, 600 Army Pentagon, Washington, DC 20310-0600; (703) 692-9223; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington, Navy Yard, 1322 Patterson Ave., SE., Suite 1000, Washington, DC 20374-5065; (202) 685-9200; (These are not toll-free numbers).

Dated: November 6, 2002.
John D. Garrity,
Director, Office of Special Needs Assistance Programs.

Suitable/Available Properties

Buildings (by State)

New Jersey

Chapel Hill Front Range Light

N. Lenard Ave.

Middletown Co: Monmouth NJ

Landholding Agency: GSA

Property Number: 54200240011

Status: Excess

Comment: steel tower on 0.40 acres, possible flood hazard, wetlands & possible endangered species

GSA Number: 1-U-NJ-0627

Puerto Rico

7.5 Naval Reservation

Munoz Rivera Ave.

San Juan Co: PR

Landholding Agency: GSA

Property Number: 54200240012

Status: Excess

Comment: multi-use structures including admin. and residential, presence of asbestos/lead paint, exhibits historical and archeological significance

GSA Number: 1-N-PR-497

Land (by State)

Montana

Canyon Ferry Reservoir Portion

Tracts FS-1, FS-2, FS-3, FS-4

Lewis & Clark Co: MT 59602-

Landholding Agency: GSA

Property Number: 54200240010

Status: Surplus

Comment: 8.47 acres, subject to existing easements, buffer zone

GSA Number: 7-I-MT-0409

Unsuitable Properties

Buildings (by State)

Alabama

Bldg. 01306

Fort Rucker

Ft. Rucker Co: AL 36362-

Landholding Agency: Army

Property Number: 21200240001

Status: Unutilized

Reason: Extensive deterioration

Bldg. 01314

Fort Rucker

Ft. Rucker Co: AL 36362-

Landholding Agency: Army

Property Number: 21200240002

Status: Unutilized

Reason: Extensive deterioration

Bldg. 01316

Fort Rucker

Ft. Rucker Co: AL 36362-

Landholding Agency: Army

Property Number: 21200240003

Status: Unutilized

Reason: Extensive deterioration

Bldg. 01318

Fort Rucker

Ft. Rucker Co: AL 36362-

Landholding Agency: Army

Property Number: 21200240004

Status: Unutilized

Reason: Extensive deterioration

Bldg. 9001

Fort Rucker

Ft. Rucker Co: AL 36362-

Landholding Agency: Army

Property Number: 21200240005

Status: Unutilized

Reason: Extensive deterioration

Bldg. 112

Redstone Arsenal

Redstone Arsenal Co: Madison AL 35898-

Landholding Agency: Army

Property Number: 21200240006

Status: Unutilized

Reasons: Secured Area; Extensive deterioration

Bldg. 01200

Redstone Arsenal

Redstone Arsenal Co: Madison AL 35898-

Landholding Agency: Army

Property Number: 21200240007

Status: Unutilized

Reasons: Secured Area; Extensive deterioration

Bldg. 1400A

Redstone Arsenal

Redstone Arsenal Co: Madison AL 35898-

Landholding Agency: Army

Property Number: 21200240008

Status: Unutilized

Reasons: Secured Area; Extensive deterioration

Bldg. 1407A

Redstone Arsenal

Redstone Arsenal Co: Madison AL 35898-

Landholding Agency: Army

Property Number: 21200240009

Status: Unutilized

Reasons: Secured Area; Extensive deterioration

Bldg. 1413A

Redstone Arsenal

Redstone Arsenal Co: Madison AL 35898-

Landholding Agency: Army

Property Number: 21200240010

Status: Unutilized

Reasons: Secured Area; Extensive deterioration

8 Bldgs.

Redstone Arsenal

1417A thru 1424A

Redstone Arsenal Co: Madison AL 35898-

Landholding Agency: Army

Property Number: 21200240011

Status: Unutilized

Reasons: Secured Area; Extensive deterioration

5 Bldgs.

Redstone Arsenal

1426A thru 1430A

Redstone Arsenal Co: Madison AL 35898-

Landholding Agency: Army

Property Number: 21200240012

Status: Unutilized

Reasons: Secured Area; Extensive deterioration

5 Bldgs.

Redstone Arsenal

1433A thru 1437A

Redstone Arsenal Co: Madison AL 35898-

Landholding Agency: Army

Property Number: 21200240013

Status: Unutilized

Reasons: Secured Area; Extensive deterioration

Bldg. 03140

Redstone Arsenal

Redstone Arsenal Co: Madison AL 35898-

Landholding Agency: Army

Property Number: 21200240014

Status: Unutilized

Reasons: Secured Area; Extensive deterioration

Bldgs. 03436, 03462

Redstone Arsenal

Redstone Arsenal Co: Madison AL 35898-

Landholding Agency: Army

Property Number: 21200240015

Status: Unutilized

Reasons: Secured Area; Extensive deterioration

Bldg. 03524

Redstone Arsenal

Redstone Co: Madison AL 35898-

Landhonding Agency: Army

Property Number: 21200240016

Status: Unutilized

Reasons: Secured Area; Extensive deterioration

Bldg. 515-5107

Redstone Arsenal

Redstone Arsenal Co: Madison AL 35898-

Landhonding Agency: Army

Property Number: 21200240017

Status: Unutilized

Reasons: Secured Area; Extensive deterioration

Bldg. 7309A

Redstone Arsenal

Redstone Arsenal Co: Madison AL 35898-

Landhonding Agency: Army

Property Number: 21200240018

Status: Unutilized

Reasons: Secured Area; Extensive deterioration

Bldgs. 7360B, 7368A, 7382A

Redstone Arsenal

Redstone Arsenal Co: Madison AL 35898-

Landhonding Agency: Army

Property Number: 21200240019

Status: Unutilized

Reasons: Secured Area; Extensive deterioration

Bldg. 07587

Redstone Arsenal

Redstone Arsenal Co: Madison AL 35898-

Landhonding Agency: Army

Property Number: 21200240020

Status: Unutilized

Reasons: Secured Area; Extensive deterioration

Bldgs. 7632A, 7660A

Redstone Arsenal

Redstone Arsenal Co: Madison AL 35898-

Landhonding Agency: Army

Property Number: 21200240021

Status: Unutilized

Reasons: Secured Area; Extensive deterioration

Bldg. 07716

Redstone Arsenal

Redstone Arsenal Co: Madison AL 35898-

Landholding Agency: Army

Property Number: 21200240022

Status: Unutilized

Reasons: Secured Area; Extensive deterioration

Bldg. 08027

Redstone Arsenal

Redstone Arsenal Co: Madison AL 35898-

Landholding Agency: Army

Property Number: 21200240023

Status: Unutilized

Reasons: Secured Area; Extensive deterioration

Arizona

Bldg. 15348

Fort Huachuca

Ft. Huachuca Co: Cochise AZ 85613-6000

Landholding Agency: Army

Property Number: 21200240024

Status: Excess

Reason: Extensive deterioration

California

3 Bldgs.

DDJC Sharpe

S00004, 00006, 00012

Lathrop Co: San Joaquin CA 95231-

Landholding Agency: Army

Property Number: 21200240025

Status: Unutilized

Reason: Secured Area

Bldg. S00108

DDJC Sharpe

Lathrop Co: San Joaquin CA 95231-

Landholding Agency: Army

Property Number: 21200240026

Status: Unutilized

Reason: Secured Area

Bldgs. S00161, 00162

DDJC Sharpe

Lathrop Co: San Joaquin CA 95231-

Landholding Agency: Army

Property Number: 21200240027

Status: Unutilized

Reason: Secured Area

Bldg. S00221

DDJC Sharpe

Lathrop Co: San Joaquin CA 95231-

Landholding Agency: Army

Property Number: 21200240028

Status: Unutilized

Reason: Secured Area

4 Bldgs.

DDJC Sharpe

S00482, 00483, 00484, 00485

Lathop Co: San Joaquin CA 95231-

Landholding Agency: Army

Property Number: 21200240029

Status: Unutilized

Reason: Secured Area

Bldg. S00660

DDJC Sharpe

Lathrop Co: San Joaquin CA 95231-

Landholding Agency: Army

Property Number: 21200240030

Status: Unutilized

Reason; Secured Area

Bldg. 00352

Fort Irwin

Ft. Irwin Co: San Bernardino CA 92310-

Landholding Agency: Army

Property Number: 21200240031

Status: Excess

Reason: Extensive deterioration

Bldg2. 00516, 00520, 00547

Fort Irwin

Ft. Irwin Co: San Bernardino CA 92310-

Landholding Agency: Army

Property Number: 21200240032

Status: Excess

Reason: Extensive deterioration

Bldg. 00818

Fort Irwin

Ft. Irwin Co: San Bernardino CA 92310-

Landholding Agency: Army

Property Number: 21200240033

Status: Excess

Reason: Extensive deterioration

Hawaii

Bldgs. 01507, 01522, 06023

Fort Shafter

Honolulu Co: HI 96819-

Landholding Agency: Army

Property Number: 21200240034

Status: Unutilized

Reason: Extensive deterioration

Kentucky

5 Bldgs.

Fort Knox

Ft. Knox Co: Ky 40121-

Location: 04804, 04814, 04818, 04955, 04985

Landholding Agency: Army

Property Number: 21200240035

Status: Unutilized

Reason: Extensive deterioration

48 Bldgs.

Fort Knox

Ft. Knox Co: KY 40121-

Location: 363 sq. ft.—housing

Landholding AGency: Army

Property Number: 21200240036

Status: Unutilized

Reason: Extensive deterioration

40 Bldgs.

Fort Knox

Ft. Knox Co: KY 40121-

Location: 5,680 sq. ft.—housing

Landholding Agency: Army

Property Number: 21200240037

Status: Unutilized

Reason: Extensive deterioration

19 Bldgs.

Fort Knox

Ft. Knox Co: KY 40121-

Location: 04809, 04812, 04832, 04843, 04849, 04852, 04869, 04873, 04890, 04919, 04920, 04935, 04941, 04962, 04968, 04975, 04978, 04980, 04988

Landholding Agency: Army

Property Number: 21200240038

Status: Unutilized

Reason: Extensive deterioration

13 Bldgs.

Fort Knox

Ft. Knox Co: KY 40121-

Location: 04810, 04842, 04868, 04884, 04891, 04899, 04904, 04940, 04947, 04961, 04974, 04979, 04987

Landholding Agency: Army

Property Number: 21200240039

Status: Unutilized

Reason: Extensive deterioration

17 Bldgs.

Fort Knox

Ft. Knox Co: KY 40121-

Location: 04829, 04833, 04838, 04844, 04850, 04870, 04875, 04908, 04918, 04921, 04926, 04936, 04942, 04951, 04957, 04963, 04969

Landholding Agency: Army

Property Number: 21200240040

Status: Unutilized

Reason: Extensive deterioration

5 Bldgs.

Fort Knox

Ft. Knox Co: KY 40121-

Location: 04851, 04911, 04912, 04915, 04916

Landholding Agency: Army

Property Number: 21200240041

Status: Unutilized

Reason: Extensive deterioration

16 Bldgs.

Fort Knox

Ft. Knox Co: KY 40121-

Location: 04857, 04858, 04885, 04886, 04892, 04893, 04895, 04896, 04905, 04906, 04932, 04933, 04948, 04949, 04982, 04983

Landholding Agency: Army

Property Number: 21200240042

Status: Unutilized

Reason: Extensive deterioration

Bldg. 04914

Fort Knox

Ft. Knox Co: KY 40121-

Landholding Agency: Army

Property Number: 21200240043

Status: Unutilized

Reason: Extensive deterioration

Bldgs. 4955, 4985

Fort Knox

Ft. Knox Co: KY 40121-

Landholding Agency: Army

Property Number: 21200240044

Status: Unutilized

Reason: Extensive deterioration

12 Bldgs.

Fort Knox

Ft. Knox Co: KY 40121-

Location: 06818, 06824, 06853, 06857, 06869, 06872, 06887, 06891, 07023, 07027, 07053, 07089

Landholding Agency: Army

Property Number: 21200240045

Status: Unutilized

Reason: Extensive deterioration

Maine

Bldg. M-4

Portsmouth Naval Shipyard

Kittery Co: York ME 03904-

Landholding Agency: Navy

Property Number: 77200240012

Status: Excess

Reason: Secured Area

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York Me 03904-

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reason: Within 2000 ft. of flammable or explosive material; Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material; Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 322

Portsmouth Naval Shipyard

Kittery Co: York ME 03904-

Landholding Agency: Navy

Property Number: 77200240030

Status: Excess

Reason: Secured Area

Maryland

12 Bldgs.

Fort George G. Meade

Ft. Meade Co: Anne Arundel MD 20755-5115

Location: 1600, 1604, 1609, 1614, 1617, 1620, 1622, 1625, 1820, 1823, 1826, 1829

Landholding Agency: Army

Property Number: 21200240046

Status: Unutilized

Reason: Extensive deterioration

6 Bldgs.

Fort George G. Meade

Ft. Meade Co: Anne Arundel MD 20755-5115

Location: 1603, 1606, 1607, 1610, 1613, 1618

Landholding Agency: Army

Property Number: 21200240047

Status: Unutilized

Reason: Extensive deterioration

12 Bldgs.

Fort George G. Meade

Ft. Meade Co: Anne Arundel MD 20755-5115

Location: 1601, 1602, 1605, 1608, 1611, 1612, 1615, 1616, 1619, 1621, 1623, 1624

Landholding Agency: Army

Property Number: 21200240048

Status: Unutilized

Reason: Extensive deterioration

7 Bldgs.

Fort George G. Meade

Ft. Meade Co: Anne Arundel MD 20755-5115

Location: 1646, 1647, 1728, 1729, 1730, 1731, 1879

Landholding Agency: Army

Property Number: 21200240049

Status: Unutilized

Reason: Extensive deterioration

Bldgs. 1700-1723

Fort George G. Meade

Ft. Meade Co: Anne Arundel MD 20755-5115

Landholding Agency: Army

Property Number: 21200240050

Status: Unutilized

Reason: Extensive deterioration

9 Bldgs.

Fort George G. Meade

Ft. Meade Co: Anne Arundel MD 20755-5115

Location: 1819, 1821, 1822, 1824, 1825, 1827, 1828, 1830, 1831

Landholding Agency: Army

Property Number: 21200240051

Status: Unutilized

Reason: Extensive deterioration

Bldg. 2221

Fort George G. Meade

Ft. Meade Co: Anne Arundel MD 20755-5115

Landholding Agency: Army

Property Number: 21200240052

Status: Unutilized

Reason: Extensive deterioration

Bldgs. 2247, 2249A

Fort George G. Meade

Ft. Meade Co: Anne Arundel MD 20755-5115

Landholding Agency: Army

Property Number: 21200240053

Status: Unutilized

Reason: Extensive deterioration

Massachusetts

Wayland Army Natl Guard Fac.

Oxbow Road

Wayland Co: MA 01778-

Landholding Agency: GSA

Property Number: 54200240007

Status: Excess

Reason: Extensive deterioration

GSA Number: 1-D-MA-0725

Missouri

Bldg. 218A

U.S. Army Reserve Center

St. Louis Co: St. Charles MO 63120-1794

Landholding Agency: Army

Property Number: 21200240054

Status: Unutilized

Reason: Extensive deterioration

Bldg. P4122

U.S. Army Reserve Center

St. Louis Co: St. Charles MO 63120-1794

Landholding Agency: Army

Property Number: 21200240055

Status: Unutilized

Reason: Extensive deterioration

Bldg. 6140

Fort Leonard Wood

Ft. Leonard Wood Co: Pulaski MO 65743-8944

Landholding Agency: Army

Property Number: 21200240056

Status: Unutilized

Reason: Extensive deterioration

New Hampshire

Bldg. 40

Portsmouth Naval Shipyard

Portsmouth Co: NH 03804-5000

Landholding Agency: Navy

Property Number: 77200240031

Status: Excess

Reasons: Within 2000 ft. of flammable or explosive material; Secured Area

New Mexico

Bldgs. 20854, 21694

White Sands Missile Range

Dona Ana Co: NM 88002-

Landholding Agency: Army

Property Number: 21200240057

Status: Excess

Reason: Extensive deterioration

Ohio

Bldg. 12

Defense Supply Center

Columbus Co: Franklin OH 43216-5000

Landholding Agency: Army

Property Number: 21200240058

Status: Unutilized

Reasons: Secured Area; Extensive deterioration

Bldgs. 32, 33, 34, 35

Defense Supply Center

Columbus Co: Franklin OH 43216-5000

Landholding Agency: Army

Property Number: 21200240059

Status: Unutilized

Reasons: Secured Area; Extensive deterioration

Bldgs. 36, 38, 39, 40

Defense Supply Center

Columbus Co: Franklin OH 43216-5000

Landholding Agency: Army

Property Number: 21200240060

Status: Unutilized

Reasons: Secured Area; Extensive deterioration

4 Bldgs.

Ravenna Army Amo Plant

Ravenna Co: Portage OH 44266-9297

Location: WS001, WS01A, WS002, WS02A

Landholding Agency: Army

Property Number: 21200240061

Status: Excess

Reasons: Within 2000 ft. of flammable or explosive material; Within airport runway clear zone; Secured Area; Extensive deterioration

27 Bldgs.

Ravenna Army Amo Plant

Ravenna Co: Portage OH 44266-9297

Location: 002F1-02F36, 00651, 1101; Load Line 6

Landholding Agency: Army

Property Number: 21200240062

Status: Excess

Reasons: Within 2000 ft. of flammable or explosive material; Within airport runway clear zone; Secured Area; Extensive deterioration

40 Bldgs.

Ravenna Army Amo Plant

Ravenna Co: Portage OH 44266-9297

Location: DT001-DT031, DT033-DT035, DT052, DT054-DT056, 09051; Load—Line 9

Landholding Agency: Army

Property Number: 21200240063

Status: Excess

Reasons: Within 2000 ft. of flammable or explosive material; Within airport runway clear zone; Secured Area; Extensive deterioration

32 Bldgs.

Ravenna Army Amo Plant

Ravenna Co: Portage, OH 44266-9297

Location: PE001-PE031; Load—Line 10

Landholding Agency: Army

Property Number : 21200240064

Status: Excess

Reasons: in 2000 ft. of flammable or explosive material; Within airport runway clear zone; Secured Area; Extensive deterioration

Tennessee

Bldg. 2438

Fort Campbell

Ft. Campbell Co: Montgomery TN 42223-

Landholding Agency: Army

Property Number: 21200240065

Status: Unutilized

Reason: Extensive deterioration

Bldg. 103

Holston Army Amo Plant

Kingsport Co: Sullivan TN 37660-

Landholding Agency: Army

Property Number: 21200240066

Status: Excess

Reasons: Within 2000 ft. of flammable or explosive material; Secured Area

Virginia

Bldgs. F0050, F0051

Fort A.P. Hill

Bowling Green Co: Caroline VA 22427-

Landholding Agency: Army

Property Number: 21200240067

Status: Unutilized

Reason: Extensive deterioration

Bldg. T0130

Fort A.P. Hill

Bowling Green Co: Caroline VA 22427-

Landholding Agency: Army

Property Number: 21200240068

Status: Unutilized

Reason: Extensive deterioration

Bldgs. T0131, T0132, T0133

Fort A.P. Hill

Bowling Green Co: Caroline VA 22427-

Landholding Agency: Army

Property Number: 21200240069

Status: Unutilized

Reason: Extensive deterioration

Bldg. 11503

Fort Lee

Ft. Lee Co: Prince George VA 23801-

Landholding Agency: Army

Property Number: 21200240070

Status: Unutilized

Reason: Extensive deterioration

Bldg. 00200

Radford Army Amo Plant

Radford Co: VA 24143-0100

Landholding Agency: Army

Property Number: 21200240071

Status: Unutilized

Reasons: Within 2000 ft. of flammable or explosive material; Secured Area

Bldg. T4022

Radford Army Amo Plant

Radford Co: VA 24143-0100

Landholding Agency: Army

Property Number: 21200240072

Status: Unutilized

Reasons: Within 2000ft. of flammable or explosive material; Secured Area; Extensive deterioration

Washington

Bldg. 66

Naval Magazine

Indian Island

Port Hadlock Co: Jefferson WA 98339-9723

Landholding Agency: Navy

Property Number: 77200240032

Status: Unutilized

Reasons: Within 2000 ft. of flammable or explosive material; Secured Area; Extensive deterioration

Bldg. 67

Naval Magazine

Indian Island

Port Hadlock Co: Jefferson WA 98339-9723

Landholding Agency: Navy

Property Number: 77200240033

Status: Unutilized

Reasons: Within 2000 ft. of flammable or explosive material; Secured Area; Extensive deterioration

Bldg. 180

Naval Magazine

Indian Island

Port Hadlock Co: Jefferson WA 98339-9723

Landholding Agency: Navy

Property Number: 77200240034

Status: Unutilized

Reasons: Within 2000 ft. of flammable or explosive material; Secured Area; Extensive deterioration

Bldg. 182

Naval Magazine

Indian Island

Port Hadlock Co: Jefferson WA 98339-9723

Landholding Agency: Navy

Property Number: 77200240035

Status: Unutilized

Reasons: Within 2000 ft. of flammable or explosive material; Secured Area; Extensive deterioration

Bldg. 214

Naval Magazine

Indian Island

Port Hadlock Co: Jefferson WA 98339-9723

Landholding Agency: Navy

Property Number: 77200240036

Status: Unutilized

Reasons: Within 2000 ft. of flammable or explosive material; Secured Area; Extensive deterioration

Bldg. 273

Naval Magazine

Indian Island

Port Hadlock Co: Jefferson WA 98339-9723

Landholding Agency: Navy

Property Number: 77200240037

Status: Unutilized

Reasons: Within 2000 ft. of flammable or explosive material; Secured Area; Extensive deterioration

Bldg. 937

Naval Undersea Warfare

Keyport Co: Kitsap WA 98345-7610

Landholding Agency: Navy

Property Number: 77200240038

Status: Unutilized

Reasons: Within 2000 ft. of flammable or explosive material; Secured Area

Bldg. 2801A

Naval Undersea Warfare

Keyport Co: Kitsap WA 98345-7610

Landholding Agency: Navy

Property Number: 77200240039

Status: Unutilized

Reasons: Within 2000 ft. of flammable or explosive material; Secured Area

Bldg. 7634

Naval Undersea Warfare

Keyport Co: Kitsap WA 98345-7610

Landholding Agency: Navy

Property Number: 77200240040

Status: Unutilized

Reasons: Within 2000 ft. of flammable or explosive material; Secured Area

Wisconsin

Bldg. 1366

Fort McCoy

Ft. McCoy Co: Monroe WI 54656-5136

Landholding Agency: Army

Property Number: 21200240073

Status: Unutilized

Reason: Extensive deterioration

Bldg. 420-8

Badger Army Amo Plant

Baraboo Co: Sauk WI 53913-

Landholding Agency: Army

Property Number: 21200240074

Status: Unutilized

Reasons: Within 2000 ft. of flammable or explosive material; Secured Area

Bldgs. 750, 751, 753

Badger Army Amo Plant

Baraboo Co: Sauk WI 53913-

Landholding Agency: Army

Property Number: 21200240075

Status: Unutilized

Reasons: Within 2000 ft. of flammable or explosive material; Secured Area

Bldgs. 754-1 thru 754-6

Badger Army Amo Plant

Baraboo Co: Sauk WI 53919-

Landholding Agency: Army

Property Number: 21200240076

Status: Unutilized

Reasons: Within 2000 ft. of flammable or explosive material; Secured Area

Bldgs. 763, 765, 768

Badger Army Amo Plant

Baraboo Co: Sauk WI 53913-

Landholding Agency: Army

Property Number: 21200240077

Status: Unutilized

Reasons: Within 2000 ft. of flammable or explosive material; Secured Area

Bldgs. 770-1 thru 770-3

Badger Army Amo Plant

Baraboo Co: Sauk WI 53913-

Landholding Agency: Army

Property Number: 21200240078

Status: Unutilized

Reasons: Within 2000 ft. of flammable or explosive material; Secured Area

Bldgs. 771, 00778

Badger Army Amo Plant

Baraboo Co: Sauk WI 53913-

Landholding Agency: Army

Property Number: 21200240079

Status: Unutilized

Reasons: Within 2000 ft. of flammable or explosive material; Secured Area

Bldgs. 791, 793

Badger Army Amo Plant

Baraboo Co: Sauk WI 53913-

Landholding Agency: Army

Property Number: 21200240080

Status: Unutilized

Reasons: Within 2000 ft. of flammable or explosive material; Secured Area

Land (by State)

Michigan

20.3 acres

Moon Island

Munuscong Lake Co: Chippewa MI

Landholding Agency: GSA

Property Number: 54200240008

Status: Excess

Reason; Not accessible by road

GSA Number: 1-U-MI-803

5.43 acres

Drummond Island

Drummond Tnshp Co: Cheppawa MI

Landholding Agency; GSA

Property Number: 54200240009

Status: Excess

Reason: Not accessible by road

GSA Number: 1-U-MI-449A

[FR Doc. 02-28962 Filed 11-14-02; 8:45 am]

BILLING CODE 4210-29-M